DEPARTMENT OF ENERGY

Federal Energy Regulatory Commission

Combined Notice of Filings #1

Take notice that the Commission received the following electric rate filings:

Docket Numbers: ER10-3166-004; ER10-1285 012; ER10-1287 013; ER10-1346 008; ER10-1348 008; ER10-2959 017; ER12-2676 001; ER20-1604 002.

Applicants: Cadillac Renewable Energy LLC, Chambers Cogeneration, Limited Partnership, Craven County Wood Energy Limited Partnership, Frederickson Power L.P., Grayling Generating Station Limited Partnership, Manchief Power Company LLC, Piedmont Green Power, LLC, EF Oxnard LLC.

Description: Notice of Change in Status of Cadillac Renewable Energy LLC, et al.

Filed Date: 6/11/21.

Accession Number: 20210611-5154.

Comments Due: 5 p.m. ET 7/2/21.

Docket Numbers: ER11-2534-007; ER16-2234 004.

Applicants: Morris Cogeneration, LLC, EF Kenilworth LLC.

Description: Compliance filing: Change in Status Filing to be effective 6/12/2021.

Filed Date: 6/11/21.

Accession Number: 20210611-5116.

Comments Due: 5 p.m. ET 7/2/21.

Docket Numbers: ER20-2411-001.

Applicants: Midcontinent Independent System Operator, Inc.

Description: Compliance filing: 2021-06-14_SA 2959 NSP-Stoneray Power Partners Sub 2nd Rev GIA (J426) to be effective 4/15/2021.

Filed Date: 6/14/21.

Accession Number: 20210614-5074.

Comments Due: 5 p.m. ET 7/6/21.

Docket Numbers: ER20-2412-002.

Applicants: Midcontinent Independent System Operator, Inc.

Description: Compliance filing: 2021-06-14_SA 3513 NSP-Stoneray Power Partners Sub Original FSA (J426) to be effective 4/15/2021.

Filed Date: 6/14/21.

Accession Number: 20210614-5078.

Comments Due: 5 p.m. ET 7/6/21.

Docket Numbers: ER20-2423-001.

Applicants: Midcontinent Independent System Operator, Inc.

Description: Compliance filing: 2021-06-14_SA 2852 NSP-GRE-WMMPA-OTP-CMMPA-Red Pine Wind Sub 1st Rev FCA (H081) to be effective 4/15/2021.

Filed Date: 6/14/21.

Accession Number: 20210614-5102.

Comments Due: 5 p.m. ET 7/6/21.

Docket Numbers: ER20-2424-002.

Applicants: Midcontinent Independent System Operator, Inc.

Description: Compliance filing: 2021-06-14_SA 3520 OTP-Red Pine Wind Substitute FSA (H081) to be effective 4/15/2021.

Filed Date: 6/14/21.

Accession Number: 20210614-5113.

Comments Due: 5 p.m. ET 7/6/21.

Docket Numbers: ER20-2438-001.

Applicants: Midcontinent Independent System Operator, Inc.

Description: Compliance filing: 2021-06-14_SA 2885 NSP-Marshall Solar Sub 2nd Rev GIA (J400) to be effective 4/15/2021.

Filed Date: 6/14/21.

Accession Number: 20210614-5064.

Comments Due: 5 p.m. ET 7/6/21.

Docket Numbers: ER20-2439-002.

Applicants: Midcontinent Independent System Operator, Inc.

Description: Compliance filing: 2021-06-14_SA 3514 NSP-Marshall Solar Sub FSA (J400) to be effective 4/15/2021.

Filed Date: 6/14/21.

Accession Number: 20210614-5066.

Comments Due: 5 p.m. ET 7/6/21.

Docket Numbers: ER21-1505-001.

Applicants: Diablo Energy Storage, LLC.

Description: Tariff Amendment: Response to Request for Additional Information to be effective 4/1/2021.

Filed Date: 6/14/21.

Accession Number: 20210614-5108.

Comments Due: 5 p.m. ET 7/6/21.

Docket Numbers: ER21-1768-001.

Applicants: Light Power & Gas LLC.

Description: Tariff Amendment: LPG Revised MBR Tariff Filing to be effective 6/1/2021.

Filed Date: 6/14/21.

Accession Number: 20210614-5068.

Comments Due: 5 p.m. ET 7/6/21.

Docket Numbers: ER21-2126-000.

Applicants: American Electric Power Service Corporation, Ohio Power Company, PJM Interconnection, L.L.C.

Description: § 205(d) Rate Filing: AEP submits Two FAs re: ILDSA SA No. 1336 to be effective 8/14/2021.

Filed Date: 6/14/21.

Accession Number: 20210614-5040.

Comments Due: 5 p.m. ET 7/6/21.

Docket Numbers: ER21-2127-000.

Applicants: AEP Texas Inc.

Description: § 205(d) Rate Filing: AEPTX-AP Solar 4 (Charger Solar) GIA to be effective 6/5/2021.

Filed Date: 6/14/21.

Accession Number: 20210614-5045.

Comments Due: 5 p.m. ET 7/6/21.

Docket Numbers: ER21-2128-000.

Applicants: 0HAM WHAM8 SOLAR, LLC.

Description: Baseline eTariff Filing: Application for Market-Based Rate Authorization under Section 205 of the FPA to be effective 8/14/2021.

Filed Date: 6/14/21.

Accession Number: 20210614-5046.

Comments Due: 5 p.m. ET 7/6/21.

Docket Numbers: ER21-2129-000.

Applicants: 276FED WHAM8 SOLAR, LLC.

Description: Baseline eTariff Filing: Application for Market-Based Rate Authorization under Section 205 of the FPA to be effective 8/14/2021.

Filed Date: 6/14/21.

Accession Number: 20210614-5047.

Comments Due: 5 p.m. ET 7/6/21.

Docket Numbers: ER21-2130-000.

Applicants: Public Service Company of Oklahoma.

Description: § 205(d) Rate Filing: PSO-AECI Mazie Delivery Point Agreement to be effective 6/5/2021.

Filed Date: 6/14/21.

Accession Number: 20210614-5049.

Comments Due: 5 p.m. ET 7/6/21.

Docket Numbers: ER21-2131-000.

Applicants: AEP Texas Inc.

Description: § 205(d) Rate Filing: AEPTX-BRP Antlia BESS GIA to be effective 6/5/2021.

Filed Date: 6/14/21.

Accession Number: 20210614-5054.

Comments Due: 5 p.m. ET 7/6/21.

Docket Numbers: ER21-2132-000.

Applicants: Florida Power & Light Company.

Description: § 205(d) Rate Filing: FPL-Seminole Amendments to Exhibit A of Contract for Interconnected Operations to be effective 6/1/2021.

Filed Date: 6/14/21.

Accession Number: 20210614-5067.

Comments Due: 5 p.m. ET 7/6/21.

Docket Numbers: ER21-2133-000.

Applicants: Midcontinent Independent System Operator, Inc., AEP Indiana Michigan Transmission Company.

Description: Compliance filing: 2021-06-14_AEP IMTCO Compliance Filing to be effective 4/15/2021.

Filed Date: 6/14/21.

Accession Number: 20210614-5098.

Comments Due: 5 p.m. ET 7/6/21.

Docket Numbers: ER21-2134-000.

Applicants: Basin Electric Power Cooperative.

Description: Tariff Cancellation: Basin Electric Notice of Cancellation for Service Agreement No. 26 to be effective 3/2/2021.

Filed Date: 6/14/21.

Accession Number: 20210614-5111.

Comments Due: 5 p.m. ET 7/6/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 14, 2021.
Debbie-Anne A. Reese,
Deputy Secretary.

[FR Doc. 2021-13422 Filed 6-23-21; 8:45 am]

BILLING CODE 6717-01-P